DEPARTMENT OF TRANSPORTATION

Federal Aviation Administration

Notice Before Waiver With Respect To Land at Lynchburg Regional Airport, Lynchburg, VA

AGENCY: Federal Aviation Administration, (FAA), DOT.

ACTION: Notice of intent of waiver with respect to land.

SUMMARY: The Federal Aviation Administration (FAA) proposes to rule and invites public comment on the release of approximately thirty (30) acres of land at the Lynchburg Regional Airport, Lynchburg, Virginia from all Federal obligations, since the land is no longer needed for airport purposes. Reuse of the land for commercial/light industrial purposes represents a compatible land use. There are no impacts to the Airport and the land is not needed for airport development as shown on the Airport Layout Plan. The proceeds from the disposal of land acquired with Federal grants will be used for land acquisition and construction costs associated with the southerly extension to Runway 4-22. The proceeds from the disposal of land acquired without Federal grants will be used for Airport operating and capital costs.

DATES: Comments must be received on or before May 1, 2006.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Mr. Mark F. Courtney, Airport Director Lynchburg Regional Airport, at the following address: Mr. Mark F. Courtney, A.A.E., Airport Director, Lynchburg Regional Airport, 4308 Wards Road, Lynchburg, Virginia 24502.

FOR FURTHER INFORMATION CONTACT: Mr. Terry Page, Manager, Washington Airport District Office, 23723 Air Freight Lane, Suite 210, Dulles, VA 20166; telephone (703) 661-1354, fax (703) 661-1270, e-mail Terry.Page@ffa.gov.

SUPPLEMENTARY INFORMATION: On April 5, 2000, new authorizing legislation became effective. That bill, the Wendell H. Ford Aviation investment and Reform Act for the 21st Century, Public Law 10-181 (Apr. 5, 2000; 114 Stat. 61) (AIR 21) requires that a 30-day public notice must be provided before the Secretary may waive any condition imposed on an interest in surplus property.

Issued in Dulles, Virginia on March 17, 2006.
Terry J. Page,
Manager, Washington Airports District Office, Eastern Region.

[FR Doc. 06-3109 Filed 3-30-06; 8:45 am]

BILLING CODE 4910-13-M